NATIONAL SCIENCE FOUNDATION

Advisory Committee for Integrative Activities; Notice of Meeting

In accordance with the Federal Advisory Committee Act (Pub. L. 92-463, as amended), the National Science Foundation (NSF) announces the following meeting:

Name and Committee Code: Advisory Committee for Integrative Activities (#1373).

Date and Time: November 3, 2022; 9:00 a.m.-5:00 p.m.

November 4, 2022; 9:00 a.m.-4:00 p.m.

Place: National Science Foundation, 2415 Eisenhower Avenue, Alexandria, VA 22314/Virtual Meeting Registration: Virtual attendance information will be forthcoming on the OIA website at http://www.nsf.gov/od/oia/activities

Type of Meeting: Part-open.

Contact Person: Dr. Bernice Anderson, Senior Advisor and Contracting Officer's Representative, Office of Integrative Activities (OIA), National Science Foundation, 2415 Eisenhower Avenue, Alexandria, VA 22314. Contact Information: 703-292-8040, banderso@nsf.gov.

Purpose of Meeting: To provide advice and recommendations about the use of and need for the Science and Technology Policy Institute.

Agenda

Day 1—Open, Thursday, November 3, 2022

• 9:00 a.m.-Noon: Welcome, Charge to the Panel, Overview of STPI and STPI Research Presentation

• 1:30 p.m.-5:00 p.m.: Presentations/Briefings of the Office of Science and Technology and the National Science Foundation Representatives; Discussions about the Need and Use of STPI

Day 2—Part Closed, Friday, November 4, 2022

• 9:00 a.m.-11:15 a.m.: (Open)—Presentations/Briefings by other Government Clients

• 11:15 a.m.-4:00 p.m.: (Closed)—Review of the Contract and Report Writing

Purpose of Closing: The contract being reviewed includes information of proprietary or confidential nature, including technical and personal data that must be considered in the evaluation and the development of recommendations. These matters are exempt under 5 U.S.C. 552b(c), (4), (6) and (9) (B) of the Government in the Sunshine Act.

Dated: October 6, 2022.
Crystal Robinson,
Committee Management Officer.

[FR Doc. 2022-22120 Filed 10-11-22; 8:45 am]

BILLING CODE 7555-01-P